DEPARTMENT OF AGRICULTURE

Forest Service

Trinity County Resource Advisory Committee

AGENCY: Forest Service, USDA.

ACTION: Notice of meeting.

SUMMARY: The Trinity County Resource Advisory Committee (RAC) met at the Trinity County Office of Education in Weaverville, California, on June 7, 2010, at 6:30 p.m. The purpose of the meeting was to discuss proposed projects under Title II of the Secure Rural Schools and Community Self-Determination Act of 2000 and vote on projects for recommendation to the Forest Supervisor of the Shasta-Trinity National Forest for final approval.

DATES: Monday, June 7, 2010.

ADDRESSES: Trinity County Office of Education, 201 Memorial Drive, Weaverville, California 96093.

FOR FURTHER INFORMATION CONTACT: Resource Advisory Committee Coordinator Rita Vollmer at (530) 226-2595 or rvollmer@fs.fed.us.

SUPPLEMENTARY INFORMATION: The meeting was open to the public. Public input sessions were provided and individuals had the opportunity to address the Trinity County Resource Advisory Committee.

Dated: June 9, 2010.
Brenda Tracy,
Public Use Staff Officer, Shasta-Trinity National Forest.

[FR Doc. 2010-14423 Filed 6-16-10; 8:45 am]

BILLING CODE M